ENVIRONMENTAL PROTECTION AGENCY

40 CFR Part 271

[FRL-8158-3]

Washington: Final Authorization of State Hazardous Waste Management Program Revisions

AGENCY: Environmental Protection Agency (EPA).

ACTION: Proposed rule.

SUMMARY: During a review of Washington's regulations, EPA identified a variety of State-initiated changes to Washington's hazardous waste program under the Resource Conservation and Recovery Act, as amended, (RCRA) for which the State had not previously sought authorization. EPA proposes to authorize the State for the program changes. In the “Rules and Regulations” section of this Federal Register, EPA is authorizing the revisions by an immediate final rule. EPA did not make a proposal prior to the immediate final rule because we believe this action is not controversial and do not expect comments that oppose it. We have explained the reasons for this authorization in the preamble to the immediate final rule. Unless we receive written comments that oppose this authorization during the comment period, the immediate final rule will become effective on the date it establishes, and we will not take further action on this proposal. If we receive comments that oppose this authorization, EPA will publish a document in the Federal Register withdrawing the immediate final rule before it takes effect. EPA will then address public comments in a later final rule based on this proposal. If we receive comments that oppose only the authorization of a particular change to the State hazardous waste program, we will withdraw that part of the immediate final rule. However, the authorization of program changes that are not opposed by any comments will become effective on the date established in the immediate final rule. A Federal Register withdrawal document will specify which part of the authorization will become effective and which part is being withdrawn. EPA may not provide further opportunity for comment. Any parties interested in commenting on this action must do so at this time. EPA is also proposing to make corrections to the table included in the authorization Federal Register document for Washington published on October 12, 1999.

DATES: Send your written comments by May 15, 2006.

ADDRESSES: Submit your comments, identified by EPA-R10-RCRA-2006-0087 by one of the following methods:

1. Federal eRulemaking Portal: http://www.regulations.gov. Follow the on-line instructions for submitting comments.

2. E-mail: kocourek.nina@epamail.epa.gov.

3. Fax: (206) 553-8509.

4. Mail: Nina Kocourek, U.S. EPA, Region 10, Office of Air, Waste and Toxics, 1200 Sixth Avenue, Mail Stop AWTB122, Seattle, Washington 98101.

Instructions: Direct your comments to EPA-10-RCRA-2006-0087. EPA's policy is that all comments received will be included in the public file without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system which means that EPA will not know your identity or contact information unless you provide it in the body of your comment. If you send an e-mail comment directly to EPA without going through http://www.regulations.gov, your e-mail address will be automatically captured and included as part of the comment that is placed in the public file and made available on the Internet. If you submit an electronic comment, EPA recommends that you include your name and other contact information in the body of your comment and with any disk or CD-ROM you submit. If EPA cannot read your comment due to technical difficulties and cannot contact you for clarification, EPA may not be able to consider your comment. Electronic files should avoid the use of special characters and any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy during normal business hours at the U.S. Environmental Protection Agency, Region 10 Library, 1200 Sixth Avenue, Seattle, Washington, 98101. This Docket Facility is open to the public from 9 to 11:30 a.m. and from 1 to 4 p.m. Monday through Friday, excluding legal holidays. The library telephone number is (206) 553-1289. Additionally, hard copies are available from the Washington Department of Ecology, 300 Desmond Drive, Lacey, WA 98503, contact, Patricia Hervieux at (360) 407-6756.

FOR FURTHER INFORMATION CONTACT: Nina Kocourek, U.S. EPA, Region 10, Office of Air, Waste and Toxics, 1200 Sixth Avenue, Mail Stop AWT-122, Seattle, Washington 9810, phone number: (206) 553-6502, e-mail: kocourek.nina@epa.gov; or Patricia Hervieux, Washington Department of Ecology, 300 Desmond Drive, Lacey, WA 98503; phone number: (360) 407-6756, e-mail: pher461@ecy.wa.gov.

SUPPLEMENTARY INFORMATION: For additional information, please see the immediate final rule published in the “Rules and Regulations” section of this Federal Register.

List of Subjects in 40 CFR Part 271

Environmental protection, Administrative practice and procedure, Confidential business information, Hazardous materials transportation, Hazardous waste, Indians-lands, Intergovernmental relations, Penalties, Reporting and recordkeeping requirements.

Authority: This action is issued under the authority of sections 2002(a), 3006 and 7004(b) of the Solid Waste Disposal Act, as amended, 42 U.S.C. 6912(a), 6926, 6974(b).

Dated: April 5, 2006.
L. Michael Bogert,
Regional Administrator, EPA Region 10.

[FR Doc. 06-3546 Filed 4-13-06; 8:45 am]

BILLING CODE 6560-50-P